DEPARTMENT OF COMMERCE

Foreign-Trade Zones Board

[Order No. 1280]

Grant of Authority for Subzone Status; Ricoh Electronics, Inc. Manufacturing Plant (Toner Cartridges, Related Toner Products and Thermal Paper Products), Lawrenceville, GA

Pursuant to its authority under the Foreign-Trade Zones Act of June 18, 1934, as amended (19 U.S.C. 81a-81u), the Foreign-Trade Zones Board (the Board) adopts the following Order:

Whereas, the Foreign-Trade Zones Act provides for “* * * the establishment * * * of foreign-trade zones in ports of entry of the United States, to expedite and encourage foreign commerce, and for other purposes,” and authorizes the Foreign-Trade Zones Board to grant to qualified corporations the privilege of establishing foreign-trade zones in or adjacent to U.S. Customs ports of entry;

Whereas, the Board's regulations (15 CFR part 400) provide for the establishment of special-purpose subzones when existing zone facilities cannot serve the specific use involved; and when the activity results in a significant public benefit and is in the public interest;

Whereas, the Georgia Foreign-Trade Zone, Inc., grantee of FTZ 26, has made application to the Board for authority to establish special-purpose subzone status at the toner cartridges, related toner products, and thermal paper products manufacturing plant of Ricoh Electronics, Inc., located in Lawrenceville, Georgia (FTZ Docket 53-2002, filed November 19, 2002);

Whereas, notice inviting public comment has been given in the Federal Register (67 FR 72642, 12/06/2002; amended, 68 FR 9973, 3/03/2003); and,

Whereas, the Board adopts the findings and recommendations of the examiner's report, and finds that the requirements of the FTZ Act and the Board's regulations would be satisfied, and that approval of the application, as amended, would be in the public interest, if approval, with respect to thermal paper, were subject to the time limit described below;

Now, Therefore, the Board hereby grants authority for subzone status at the toner cartridges, related toner products, and thermal paper products manufacturing plant of Ricoh Electronics, Inc., located in Lawrenceville, Georgia (Subzone 26H), at the location described in the application, subject to the FTZ Act and the Board's regulations, including § 400.28. Further, the approval for manufacturing of thermal paper under zone procedures is limited to an initial period of four years (from activation), subject to extension upon review.

Signed at Washington, DC, this 14th day of August 2003.
James J. Jochum,
Assistant Secretary of Commerce for Import Administration, Alternate Chairman, Foreign-Trade Zones Board.
Attest:
Dennis Puccinelli,
Executive Secretary.

[FR Doc. 03-22168 Filed 8-28-03; 8:45 am]

BILLING CODE 3510-DS-P